DEPARTMENT OF LABOR

Employment and Training Administration

[TA-W-62,821]

Ameridrives International, Llc, Erie, PA; Notice of Negative Determination Regarding Application for Reconsideration

By application dated April 3, 2008, petitioners requested administrative reconsideration of the Department's negative determination regarding eligibility for workers and former workers of the subject firm to apply for Trade Adjustment Assistance (TAA) and Alternative Trade Adjustment Assistance (ATAA). The denial notice was signed on March 11, 2008 and published in the Federal Register on March 26, 2008 (73 FR 16064).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, which was filed on behalf of workers at Ameridrives International, LLC, Erie, Pennsylvania engaged in the production of industrial couplings, was denied based on the findings that during the relevant time period, sales and production of industrial couplings at the subject firm did not decrease and no shift in production to a foreign country occurred.

In the request for reconsideration, the petitioners provided the same reasons, as in the initial petition, why workers of the subject firm should be eligible for TAA. In particular, the petitioners alleged that a 202.5 Spacer (Part# 079507-001) “at one time was machined complete at Ameridrives and is now being manufactured at Great Taiwan Gear in Taiwan.”

The company official was contacted to address this allegation. The official indicated that production of 202.5 Spacer (Part# 079507-001) ceased at the subject firm in 2005.

When assessing eligibility for TAA, the Department exclusively considers production during the relevant time period (one year prior to the date of the petition). Therefore, events occurring in 2005 are outside of the relevant time period and are not relevant in this investigation.

The petitioners also stated that “large universal joint components such as yokes, crosses and roller bearings are now all purchased from China”.

The company official stated that yokes, crosses and roller bearings are “raw state materials” used in the production of industrial couplings. The official also stated that since 1999 manufacturing of these parts have been outsourced to other companies as they were no longer produced at the subject firm.

The petitioners attached two documents showing Ameridrives foreign sister facilities, where “products formerly made in Erie could be possibly now be manufactured.”

According to the company official, none of the Ameridrives foreign facilities manufacture like or directly competitive products with industrial couplings manufactured by the subject facility in Erie, Pennsylvania.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed at Washington, DC, this 7th day of May, 2008.
Elliott S. Kushner,
Certifying Officer, Division of Trade Adjustment Assistance.

[FR Doc. E8-10591 Filed 5-12-08; 8:45 am]

BILLING CODE 4510-FN-P